ENVIRONMENTAL PROTECTION AGENCY

[EPA-HQ-OPPT-2005-0051; FRL-8215-9]

Asbestos-Containing Materials in Schools; State Request for Waiver From Requirements; Reopening of Comment Period; Correction

AGENCY: Environmental Protection Agency (EPA).

ACTION: Notice of proposed approval and request for comments; reopening of comment period and correction.

SUMMARY: EPA is reopening the comment period for a proposed approval and request for comments published June 1, 2006, (71 FR 31183) where EPA proposed to waive the requirements of the Federal asbestos-in-schools program for the Commonwealth of Kentucky. In the June 1, 2006, document the Federal Docket Management System (FDMS) docket number was incorrectly referenced. This document corrects the docket number and provides the opportunity to comment and/or request a public hearing.

DATES: Written comments under Docket ID Number EPA-HQ-OPPT-2005-0051 must be received by October 30, 2006. Each comment must include the name and address of the submitter. Any request for a public hearing must be in writing, be received on or before October 30, 2006, and detail specific objections to the grant of the waiver. If, during the comment period, EPA receives such a request for a public hearing, EPA will schedule a public hearing in Kentucky following the comment period. EPA will announce the date of the public hearing in the Federal Register.

ADDRESSES: Submit your comments, identified by Docket ID Number EPA-HQ-OPPT-2005-0051, by one of the following methods:

1. www.regulations.gov: Follow the on-line instructions for submitting comments.

2. E-mail: hund.john@epa.gov.

3. Fax: (404) 562-8972.

4. Mail: Docked ID Number EPA-HQ-OPPT-2005-0051, Asbestos Coordinator, Region 4, Environmental Protection Agency, Atlanta Federal Center, 61 Forsyth Street, SW., Atlanta, GA 30303-8960.

5. Hand Delivery or Courier: John Hund, Asbestos Coordinator, Region 4, Environmental Protection Agency, Atlanta Federal Center, 61 Forsyth Street, SW., Atlanta, GA 30303-8960. Such deliveries are only accepted during the Regional Office's normal hours of operation. The Regional Office's official hours of business are Monday through Friday, 8:30 to 4:30, excluding Federal holidays.

Instructions: Direct your comments to Docket ID Number EPA-HQ-OPPT-2005-0051. EPA's policy is that all comments received will be included in the public docket without change and may be made available online at www.regulations.gov, including any personal information provided, unless the comment includes information claimed to be Confidential Business Information (CBI) or other information whose disclosure is restricted by statute. Do not submit through www.regulations.gov or e-mail, information that you consider to be CBI or otherwise protected. The www.regulations.gov website is an “anonymous access” systems, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Asbestos Coordinator, Region 4, Environmental Protection Agency, Atlanta Federal Center, 61 Forsyth Street, SW., Atlanta, GA 30303-8960. EPA requests that if at all possible, you contact the person listed in the FOR FURTHER INFORMATION CONTACT section to schedule your inspection. The Regional Office's official hours of business are Monday through Friday, 8:30 to 4:30 excluding legal holidays.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 564-8182; e-mail address: TSCA-Hotline@epa.gov.

For technical information contact: John Hund, Asbestos Coordinator, Region 4, Environmental Protection Agency, Atlanta Federal Center, 61 Forsyth Street SW., Atlanta, GA 30303-8960; telephone number: (404) 562-8978; e-mail address: hund.john@epa.gov.

SUPPLEMENTARY INFORMATION: EPA is reopening the comment period and making a correction to the document published on June 1, 2006, (71 FR 31183) proposing to waive the requirements of the Federal asbestos-in-schools program for the Commonwealth of Kentucky. The FDMS docket number “EPA-HQ-OPPT-2005-0096” in the June 1, 2006, document was incorrect. The FDMS docket number in the heading, DATES and ADDRESSES (twice) section in the third column on page 31183, the first full paragraph in the first column of page 31184 and the last paragraph before the signature block in the second column on page 31186 of the document should read as follows: “EPA-HQ-OPPT-2005-0051.”

Authority: 42 U.S.C. 7401 et seq.

Dated: August 22, 2006.
A. Stanley Meiburg,
Acting Regional Administrator, Region 4.

[FR Doc. 06-7324 Filed 8-30-06; 8:45 am]

BILLING CODE 6560-50-P